DEPARTMENT OF THE INTERIOR

Fish and Wildlife Service

Okefenokee National Wildlife Refuge

AGENCY: Fish and Wildlife Service, Interior.

ACTION: Notice of availability of the Final Comprehensive Conservation Plan and Finding of No Significant Impact for Okefenokee National Wildlife Refuge in Charlton, Ware, and Clinch Counties, Georgia, and Baker County, Florida.

SUMMARY: The Fish and Wildlife Service announces that a Final Comprehensive Conservation Plan and Finding of No Significant Impact for Okefenokee National Wildlife Refuge are available for distribution. The plan was prepared pursuant to the National Wildlife Refuge System Improvement Act of 1997, and in accordance with the National Environmental Policy Act of 1969, and describes how the refuge will be managed for the next 15 years.

ADDRESSES: A copy of the plan may be obtained by writing to George Constantino, Refuge Manager, Okefenokee National Wildlife Refuge, Route 2, Box 3330, Folkston, Georgia 31537; or by calling 912/496-7366. The plan may also be accessed and downloaded from the Service's Internet Web site http://southeast.fws.gov/planning/.

SUPPLEMENTARY INFORMATION: The availability of the draft comprehensive conservation plan and environmental assessment for a 45-day review period was announced in the Federal Register on August 2, 2005 (70 FR 44355). The draft plan and environmental assessment evaluated four alternatives for managing the refuge and Alternative 2, “Integrated Landscape Management,” was selected as the preferred alternative to guide management direction over the next 15 years.

Under Alternative 2, landscape management will be emphasized. Threats to the refuge are more prominent as development increases in northeast Florida and southeast Georgia. Although Okefenokee Refuge is a large system in itself, it can be greatly compromised by activities a distance away from its boundary. Under this alternative, the staff will extend beyond the immediate neighbors to address issues associated with the aquifer, air shed, and biota exchange pathways. Extensive resources sharing and networking with other refuges, state agencies, organizations, specialists, researchers, and private citizens will expand the knowledge base and assist in developing cooperation between interest groups. Restoration of natural systems, native communities, and healthy environments will be emphasized, thus promoting a high quality of life regionally. Within the refuge, the original refuge purpose, natural processes, and the wilderness philosophy will be strongly considered in all decisions. Monitoring environmental parameters, fauna, and flora will be incorporated into an integrated study to gain knowledge on the health of the Okefenokee ecosystem. The refuge and surrounding area will be promoted, linking recreational and educational avenues. Education and outreach will be expanded with an emphasis on the health of the whole ecosystem and the links between the components.

Approximately 371,000 acres of the Okefenokee Swamp wetlands are incorporated into the refuge; and 353,981 acres within the swamp were designated as wilderness by the Okefenokee Wilderness Act of 1974, making it the third largest National Wilderness Area east of the Mississippi River. In 1986, Okefenokee Refuge was designated by the Wetlands Convention as a Wetland of International Importance.

The swamp is considered the headwaters of the Suwannee and St. Marys Rivers. Habitats provide for threatened and endangered species, such as red-cockaded woodpeckers, wood storks, indigo snakes, and a wide variety of other wildlife species. It is world renowned for its amphibian populations that are bio-indicators of global health. By combining Okefenokee Refuge with Osceola National Forest, private timberlands, and state-owned forests, more than 1 million contiguous acres provide wildlife habitat and recreational opportunities. Nearly 400,000 people visit Okefenokee Refuge each year making it the 16th most visited refuge in the National Wildlife Refuge System. In 1999, the economic impact of tourists in Charlton, Ware, and Clinch Counties in Georgia was more than $67 million.

Implementing the comprehensive conservation plan will enable the refuge to fulfill its critical role in the conservation and management of fish and wildlife resources within southeast Georgia, maintain wilderness qualities, and provide quality environmental education and wildlife-dependent recreation opportunities for refuge visitors.

Authority: This notice is published under the authority of the National Wildlife Refuge System Improvement Act of 1997, Public Law 105-57.

Dated: February 23, 2006.
Cynthia K. Dohner,
Acting Regional Director.

Editorial Note: This document was received at the Office of the Federal Register November 29, 2006.

[FR Doc. 06-9495 Filed 12-1-06; 8:45 am]

BILLING CODE 4310-55-M